DEPARTMENT OF ENERGY

Federal Energy Regulatory Commission

[Docket No. RP00-355-000]

Trailblazer Pipeline Company; Notice of Proposed Change in FERC Gas Tariff

June 29, 2000.

Take notice that on June 26, 2000 Trailblazer Pipeline Company (Trailblazer) tendered for filing as part of its FERC Gas Tariff, Third Revised Volume No. 1, certain tariff sheets to be effective March 27, 2000.

Trailblazer states that on February 9, 2000, the Federal Energy Regulatory Commission (Commission) issued its final rule regarding the regulation of short-term interstate natural gas transportation services in Docket Nos. RM98-10-000 and RM98-12-000 (Order No. 637). In the instant filing, Trailblazer is filing to implement provisions of Order No. 637 regarding the waiver of the rate ceiling for short-term capacity release transactions.

Trailblazer states that Order No 637 provides for a waiver of the rate ceiling for short-term (less than one year) capacity release transactions until September 30, 2002, and requires pipeline to file tariff revisions within 180 days of the effective date of the rule, i.e., March 27, 2000, to remove tariff provisions which are inconsistent with the removal of the rate ceiling. Accordingly, Trailblazer is filing revised tariff sheets as required. Trailblazer states that its Order No. 637 compliance plan is not due until August 15, 2000. Therefore, if Trailblazer were to wait until its Order No 637 compliance filing, the tariff provisions removing the price cap submitted therein would likely not be effective until 2001.

Trailblazer respectfully requests waiver of any provisions of its Tariff and/or the Commission's Regulations required to permit the instant filing to become effective as proposed.

Trailblazer states that copies of the filing are being mailed to its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web. http://www.ferc.fed.us/online/rims.htm (call 202-208-2222 for assistance).

David P. Boergers,
Secretary.

[FR Doc. 00-17003 Filed 7-5-00; 8:45 am]

BILLING CODE 6717-01-M